COURT SERVICES AND OFFENDER SUPERVISION AGENCY FOR THE DISTRICT OF COLUMBIA

5 CFR Chapter LXX

[CSOSA-0009-P]

RIN 3209-AA15 and 3225-AA07

Supplemental Standards of Ethical Conduct for Employees of the Court Services and Offender Supervision Agency for the District of Columbia

AGENCY: Court Services and Offender Supervision Agency for the District of Columbia.

ACTION: Final rule.

SUMMARY: The Court Services and Offender Supervision Agency for the District of Columbia (CSOSA or Agency), with the concurrence of the Office of Government Ethics (OGE), is adopting as final, without change, the interim CSOSA rule that supplements the executive-branch-wide Standards of Ethical Conduct (Standards) issued by OGE, and requires employees of CSOSA and employees of the District of Columbia Pretrial Services Agency (PSA), an independent entity within CSOSA, to obtain approval before engaging in outside employment.

DATES: This final rule is effective June 21, 2011.

FOR FURTHER INFORMATION CONTACT: Theresa A. Rowell, Assistant General Counsel, Office of General Counsel, telephone: (202) 220-5364; e-mail: theresa.rowell@csosa.gov.

SUPPLEMENTARY INFORMATION: CSOSA published, with OGE concurrence, an interim rule in 76 FR 22293, on April 21, 2011, requiring employees of CSOSA and PSA to obtain prior written approval before engaging in outside employment. No comments were received. CSOSA has determined, with OGE concurrence, to adopt the interim rule as final without any change. The interim rule being adopted as final provides that employees of CSOSA and PSA must obtain prior written approval before engaging in outside employment. The rule defines outside employment and sets out the procedure for seeking approval.

For a detailed section analysis of this final rule, see the preamble of the interim rule as published in 76 FR 22293.

Regulatory Flexibility Act

CSOSA, in accordance with the Regulatory Flexibility Act (5 U.S.C. 605(b)), has reviewed this rule and by approving it certifies that this rule will not have a significant economic impact upon a substantial number of small entities. This rule pertains to agency management, and its economic impact is limited to the agency's appropriated funds.

Paperwork Reduction Act

The Paperwork Reduction Act, 44 U.S.C. chapter 35, does not apply because this rulemaking does not contain information collection requirements subject to the approval of the Office of Management and Budget.

Congressional Review Act

CSOSA has determined that this rule is not a rule as defined in 5 U.S.C. 804, and thus, does not require review by Congress.

List of Subjects in 5 CFR Part 8001

Conflict of interests, Government employees.

Authority and Issuance: 5 U.S.C. 7301; 5 U.S.C. App. (Ethics in Government Act of 1978); E.O. 12674, 54 FR 15159, 3 CFR, 1989 Comp., p. 215, as modified by E.O 12731, 55 FR 42547, 3 CFR, 1990 Comp., p. 306; 5 CFR 2635.105, 2635.801, 2635.802, 2635.803.

Accordingly, the Court Services and Offender Supervision Agency for the District of Columbia, with the concurrence of the Office of Government Ethics, is adopting the interim rule adding 5 CFR chapter LXX, consisting of part 8001, which was published in 76 FR 22293 on April 21, 2011, as a final rule without change.

Dated: May 24, 2011.
Adrienne Poteat,
Deputy Director, Court Services and Offender Supervision Agency.
Approved: May 24, 2011.
Robert I. Cusick,
Director, Office of Government Ethics.

[FR Doc. 2011-15362 Filed 6-20-11; 8:45 am]

BILLING CODE 3129-01-P